FEDERAL COMMUNICATIONS COMMISSION

47 CFR Part 73

[FCC 00-38; MM Docket No. 92-195, RM-7091, RM-7146, RM-8123, RM-8124]

Radio Broadcasting Services; Beverly Hills, FL

AGENCY: Federal Communications Commission.

ACTION: Final rule.

SUMMARY: This document denies a Petition for Reconsideration filed by Dickerson Broadcasting, Inc., directed to the Memorandum and Order in this proceeding which upheld an earlier action upgrading Station WXOF, Beverly Hills, Florida, to specify operation on Channel 292C3. See 61 FR 19558, May 2, 1996.

FOR FURTHER INFORMATION CONTACT: Robert Hayne, Mass Media Bureau (202) 418-2177.

SUPPLEMENTARY INFORMATION: This is a synopsis of the Commission's Memorandum Opinion and Order adopted February 7, 2000, and released February 14, 2000. The full text of this decision is available for inspection and copying during normal business hours in the FCC Reference Information Center at Portals ll, CY-A257, 445 12th Street, SW, Washington, D.C. The complete text of this decision may also be purchased from the Commission's copy contractor, International Transcription Service, Inc., (202) 857-3805, 1231 M Street, NW, Washington, DC 20036.

Federal Communications Commission.
William F. Caton,
Secretary.

[FR Doc. 00-22613 Filed 9-1-00; 8:45 am]

BILLING CODE 6712-01-U